ENVIRONMENTAL PROTECTION AGENCY

[FRL-9962-46-Region 5]

Notification of a Public Meeting of the Great Lakes Advisory Board

AGENCY: Environmental Protection Agency (EPA).

ACTION: Notice.

SUMMARY: The Environmental Protection Agency (EPA) announces a public meeting of the Great Lakes Advisory Board (the Board). The purpose of this meeting is to discuss the Great Lakes Restoration Initiative (GLRI) covering FY15-19 and other relevant matters. Due to unforeseen administrative circumstances, EPA is announcing this meeting with less than 15 calendar days' public notice.

DATES: The meeting will be held on Tuesday, May 30, 2017 from 10:00 a.m. to 4:00 p.m. Central Time, 11:00 a.m. to 5:00 p.m. Eastern Time. An opportunity will be provided to the public to comment.

ADDRESSES: The meeting will be held at the EPA office, 77 W. Jackson, Lake Superior Conference Room, 12th Floor, Chicago, Illinois. For those unable to attend in person, this meeting will also be available telephonically. The teleconference number is (866) 299-3188 and the teleconference code is (312) 353-7948.

FOR FURTHER INFORMATION CONTACT: Any member of the public wishing further information regarding this meeting may contact Rita Cestaric, Designated Federal Officer (DFO), by email at Cestaric.Rita@epa.gov. General information about the Board can be found at http://glri.us/advisory/index.html.

SUPPLEMENTARY INFORMATION:

Background: The Board is a federal advisory committee chartered under the Federal Advisory Committee Act (FACA), Public Law 92-463. EPA established the Board in 2013 to provide independent advice to the EPA Administrator in his capacity as Chair of the federal Great Lakes Interagency Task Force (IATF). The Board complies with the provisions of FACA.

Availability of Meeting Materials: The agenda and other materials in support of the meeting will be available at http://glri.us/advisory/index.html.

Procedures for Providing Public Input: Federal advisory committees provide independent advice to federal agencies. Members of the public can submit relevant comments for consideration by the Board. Input from the public to the committees will have the most impact if it provides specific information for consideration. Members of the public wishing to provide comments should contact the DFO directly.

Oral Statements: In general, individuals or groups requesting an oral presentation at this public meeting will be limited to three minutes per speaker, subject to the number of people wanting to comment. Interested parties should contact the DFO in writing (preferably via email) at the contact information noted above by May 26, 2017 to be placed on the list of public speakers for the meeting.

Written Statements: Written statements must be received by May 26, 2017 so that the information may be made available to the committees for consideration. Written statements should be supplied to the DFO in the following formats: One hard copy with original signature and one electronic copy via email. Commenters are requested to provide two versions of each document submitted: One each with and without signatures because only documents without signatures may be published on the GLRI Web page.

Accessibility: For information on access or services for individuals with disabilities, please contact the DFO at the email address noted above, preferably at least seven days prior to the meeting, to give EPA as much time as possible to process your request.

Dated: May 2, 2017.
Tinka G. Hyde,
Director, Great Lakes National Program Office.

[FR Doc. 2017-10932 Filed 5-23-17; 4:15 pm]

BILLING CODE P